DEPARTMENT OF LABOR

Employment and Training Administration

[TA-W-82,900; TA-W-82,900A; TA-W-82,900B]

Honeywell International, Inc., Aerospace Order Management Division Process Solutions, In Circuit Test Engineers and Customer Service Division Including On-Site Leased Workers From Tapfin-Manpower Group Solutions Three Locations In Phoenix, Arizona; Honeywell International, Inc., Aerospace Order Management Division And Customer Service Division Including On-Site Leased Workers From Tapfin-Manpower Group Solutions Tempe, Arizona; Honeywell International, Inc., Aerospace Order Management Division and Customer Service Division Including On-Site Leased Workers From Tapfin-Manpower Group Solutions Tulsa, Oklahoma; Amended Certification Regarding Eligibility To Apply for Worker Adjustment Assistance

In accordance with Section 223 of the Trade Act of 1974, as amended (“Act”), 19 U.S.C. 2273, the Department of Labor issued a Certification of Eligibility to Apply for Worker Adjustment Assistance on November 1, 2013, applicable to workers of Honeywell International, Inc., Aerospace Order Management Division, including on-site leased workers from, Tapfin-Manpower Group Solutions, three locations in Phoenix, Arizona, (TA-W-82,900), Honeywell International, Inc., Aerospace Order Management Division, including on-site leased workers from Tapfin-Manpower Group Solutions, Tempe, Arizona, (TA-W-82,900A), and Honeywell International, Inc., Aerospace Order Management Division, including on-site leased workers from Tapfin-Manpower Group Solutions, Tulsa, Oklahoma, (TA-W-82,900B). The Department's notice of determination was published in the Federal Register on November 21, 2013 (Volume 78, No. 225 FR 69881).

At the request of workers and a State Workforce Official, the Department reviewed the certification for workers of the subject firm. The workers are engaged in activities related to the supply of order management services, in circuit testing services, and customer services. The investigation confirmed that worker separations in the Customer Service Division are attributable to an acquisition of services from a foreign country, as were the separations in the other divisions. The worker group includes off-site workers reporting to the certified locations.

The amended notice applicable to TA-W-82,900, TA-W-82,900A, TA-W-82,900B, is hereby issued as follows:

All workers of Honeywell International, Inc., Aerospace Order Management Division, Process Solutions, In Circuit Test Engineers, Customer Service Division, including on-site leased workers from, Tapfin-Manpower Group Solutions, three locations in Phoenix, Arizona, (TA-W-82,900), Honeywell International, Inc., Aerospace Order Management Division, Customer Service Division, including on-site leased workers from Tapfin-Manpower Group Solutions, Tempe, Arizona, (TA-W-82,900A), and Honeywell International, Inc., Aerospace Order Management Division, Customer Service Division, including on-site leased workers from Tapfin-Manpower Group Solutions, Tulsa, Oklahoma, (TA-W-82,900B), who became totally or partially separated from employment on or after July 11, 2012 through November 1, 2015, and all workers in the group threatened with total or partial separation from employment on the date of certification through November 1, 2015, are eligible to apply for adjustment assistance under Chapter 2 of Title II of the Trade Act of 1974, as amended.

Signed in Washington, DC, this 22nd day of August 2014.
Michael W. Jaffe,
Certifying Officer, Office of Trade Adjustment Assistance.

[FR Doc. 2014-21347 Filed 9-8-14; 8:45 am]

BILLING CODE 4510-FN-P